DEPARTMENT OF HOUSING AND URBAN DEVELOPMENT

[Docket No. FR-4560-FA-20]

Announcement of Funding Award—FY 2000 Healthy Homes Initiative

AGENCY: Office of the Secretary—Office of Healthy Homes and Lead Hazard Control.

ACTION: Announcement of funding award.

SUMMARY: In accordance with section 102(a)(4)(C) of the Department of Housing and Urban Development Reform Act of 1989, this announcement notifies the public of funding decisions made by the Department as a result of the Healthy Homes Initiative Notice of Funding Availability (NOFA). This announcement contains the names and addresses of the awardees and the amount of the awards.

FOR FURTHER INFORMATION CONTACT: Ellen Taylor, Department of Housing and Urban Development, 451, Seventh Street, SW, Washington, DC, 20410, telephone (202) 755-1785, ext. 116. Hearing- or speech-impaired individuals may access this number by calling the Federal Information Relay Service TTY at 1-800-877-8339.

SUPPLEMENTARY INFORMATION: The Healthy Homes Initiative Program is authorized by the Departments of Veterans Affairs and Housing and Urban Development, and Independent Agencies Appropriations Act, 2000, Public Law. 106-74, approved October 20, 1999, 113 Stat. 1047.

The Healthy Homes Initiative Program provides funds to develop, demonstrate and promote cost effective, preventive measures to correct multiple safety and health hazards in the home environment which produce serious diseases and injuries in children. On February 24, 2000 (65 FR 9577), HUD published a Notice of Funding Availability (NOFA) announcing the availability of approximately $6.5 million in Fiscal Year 2000 funds for the Healthy Homes Initiative Program. The Department reviewed, evaluated and scored the applications received based on the criteria in the NOFA. As a result, HUD has funded eight grantees for the Healthy Homes Initiative Program.

The Catalog of Federal Domestic Assistance number for this program is 14.901.

In accordance with section 102(a)(4)(C) of the Department of Housing and Urban Development Reform Act of 1989 (103 Stat. 1987, 42 U.S.C. 3545), the Department is publishing the names, addresses, and amounts of the awards as follows:

Awardee | Address | Amount of grant
Esperanza Community Housing Corporation | 2337 South Figueroa Street Los Angeles, CA 90007 | $999,499.00
Child Abuse Prevention Council of Sacramento, Inc. | 8795 Folsom Blvd.—Suite 103 Sacramento, CA 95826 | 1,500,000.00
Northeast Denver Housing Center | Healthy Homes Initiative 1735 Gaylord Street Denver, CO 80206 | 931,635.00
President & Fellows of Harvard College | Harvard School of Public Health, Office For Sponsored Research, 677 Huntington Avenue, Harvard, MD 02115 | 1,200,000.00
Children's Health Environmental Coalition | P.O. Box 1540, Princeton, NJ 08542 | 471,480.00
Erie County Department of Health | Environmental Health Healthy Neighborhoods Program, 499 Franklin Street, Buffalo, NY 14202 | 918,752.00
Opportunity Council | Housing Services, 314 East Holly, Bellingham, WA 98225 | 354,192.00
Board of Regents of the University of Wisconsin System | School of Pharmacy, 750 University Avenue, 400 A.W. Peterson Building, Madison, WI 53706 | 1,200,847.00

Dated: June 4, 2001.
David E. Jacobs,
Director, Office of Healthy Homes and Lead Hazard Control.

[FR Doc. 01-14666 Filed 6-11-01; 8:45 am]

BILLING CODE 4210-70-P